DEPARTMENT OF THE INTERIOR

Bureau of Safety and Environmental Enforcement

[EEE500000 20XE1700DX EX1SF0000.EAQ000]

Proposed Transfer and Re-Use of Abandoned Pipelines

AGENCY: Bureau of Safety and Environmental Enforcement, Interior.

ACTION: Notice of intent and request for submissions of competing interest.

SUMMARY: The Bureau of Safety and Environmental Enforcement (BSEE) is considering whether to authorize the transfer of ownership and reuse of certain pipelines that were decommissioned-in-place in the Gulf of Mexico (GOM).

DATES: Submissions of competing interest are due by May 20, 2020.

ADDRESSES: GOM Regional Supervisor, Regional Field Operations, Bureau of Safety & Environmental Enforcement, 1201 Elmwood Park Blvd., New Orleans, LA 70123-2394. You may also file submissions of competing interest electronically using a subject reference “Submission of Competing Interest—DIP Pipelines” at pipelines@bsee.gov.

FOR FURTHER INFORMATION CONTACT: Kevin Karl, Bureau of Safety and Environmental Enforcement, Deputy Regional Director, at (504) 736-2632, or by email to: kevin.karl@bsee.gov.

Background: BSEE recently received written requests to reuse five separate pipeline segments in the GOM that were previously decommissioned-in-place (DIP) in accordance with regulatory authority currently found at 30 CFR 250.1750 and 250.1751. The relevant pipeline segments were DIP by prior right-of-way (ROW) holders between August 2003 and December 2010. None of the parties requesting reuse were prior ROW holders of these segments.

BSEE has determined that, pursuant to regulation, Outer Continental Shelf (OCS) pipelines and related infrastructure, which are DIP for more than one year, become property of the United States and may be transferred to private parties. BSEE received requests from private parties seeking to acquire various pipeline segments from the United States, as set forth in the table below:

Pending Applications Requesting To Acquire and Re-Use DIP Pipelines
Previous ROW holder | Previous PSN | Previous ROW | DIP date
Chevron | 431 | G06386 | 08/23/03
Conoco | 6236 | G04854 | 09/09/10
W&T | 882 | G13423 | 09/09/10
Chevron PL | 4244 | G1857B | 12/10/10
Energy XXI | 9785 | G1857 | 12/27/10

Purpose: The Department of the Interior has determined that the subject pipeline segments are subject to disposition pursuant to 40 U.S.C. 701 and General Services Administration Federal Management Regulations at part 102-36. BSEE is providing notice that, until May 20, 2020, we will accept submissions of competing interest for acquisition of the listed segments.

While a request for a ROW will eventually be required pursuant to 30 CFR part 250 Subpart J to maintain and re-use the pipeline segment(s), your response to this Notice should focus on proposed terms, conditions, and appropriate instruments to be used to transfer ownership of the pipeline from the United States to you in a manner that shifts responsibility for the pipeline and any future operations and maintenance, as well as all decommissioning obligations.

Purpose of a Notice of Intent (NOI)

This NOI serves to inform interested parties of BSEE's intent to transfer ownership and authorize re-use of select pipelines that were previously decommissioned in place on the OCS, and to set forth BSEE's process for accepting submissions of competing interest.

BSEE will evaluate and respond to all submissions received pursuant to this NOI. If BSEE receives future requests to reuse other previously DIP pipelines, it will issue similar NOIs to solicit statements of competing interest.

Instructions for the NOI

Parties interested in acquiring the aforementioned pipeline(s) should submit the information outlined in the Purpose section above to the GOM Regional Supervisor for Regional Field Operations or electronically as provided in the ADDRESSES section no later than May 20, 2020.

Scott Angelle,
Director, Bureau of Safety and Environmental Enforcement.

[FR Doc. 2020-08272 Filed 4-17-20; 8:45 am]

BILLING CODE 4310-VH-P